DEPARTMENT OF EDUCATION

[CFDA No. 84.041C]

Office of Elementary and Secondary Education; Impact Aid Discretionary Construction Grant Program; Notice Inviting Applications for New Awards for Fiscal Year (FY) 2002 Funds

Correction

In notice document 02-22111 beginning on page 55383 in the issue of Thursday, August 29, 2002, make the following correction:

On page 55385, in the first column, in the first paragraph, in the ninth line after the word “assuming”, the phrase “that their bond limit is 10 percent of the assessed” is added.

[FR Doc. C2-22111 Filed 9-9-02; 8:45 am]

BILLING CODE 1505-01-D

DEPARTMENT OF LABOR

Employment and Training Administration

Investigations Regarding Certifications of Eligibility To Apply for Worker Adjustment Assistance

Correction

In notice document 02-16975 beginning on page 45153 in the issue of Monday, July 8, 2002, make the following correction:

On pages 45153 and 45154, the Appendix is corrected to read as set forth below.

Appendix
[Petitions instituted on 06/17/2002]
TA-W | Subject firm (petitioners) | Location | Date of petition | Product(s)
41,645 | Clements Manufacturing (Comp) | Harbor Beach, MI | 05/15/2002 | Wire Harnesses.
41,646 | Trinity Industries (Wrks) | Beaumont, TX | 05/23/2002 | Freight.
41,647 | DuPont Co. (Wrks) | Niagara Falls, NY | 05/20/2002 | Polyethene Glycol.
41,648 | Breeze Industrial Product (Comp) | Saltsburg, PA | 05/13/2002 | Hose Clamps.
41,649 | Calument Steel Co (Wrks) | Chicago Heights, IL | 05/24/2002 | Bars.
41,650 | Gerber Childrenswear (Wrks) | Ballinger, TX | 06/03/2002 | Blanket Sleepers.
41,651 | Tyco Electronics Corp (Wrks) | Carlisle, PA | 01/24/2002 | Electroplated Components.
41,652 | Sagem, Inc. (Comp) | Greenville, SC | 05/27/2002 | Gas Injectors.
41,653 | La-Z-Boy East (IUE) | Florence, SC | 05/23/2002 | Recliner Chairs.
41,654 | Harry J. Price Textiles (Comp) | Lowell, NC | 05/15/2002 | Various Fabrics.
41,655 | BTA-Perfex (Wrks) | Butler, WI | 05/22/2002 | Industrial Heat and Pressure Vessels.
41,656 | Hancock Manufacturing Co (Wrks) | Toronto, OH | 05/29/2002 | Steel Stampings.
41,657 | Chevron Phillips Chemical (Wrks) | Orange, TX | 05/20/2002 | Polyethylene.
41,658 | TNS Mills/Gaffney Weaving (Wrks) | Gaffney, SC | 05/10/2002 | Cloth for Men's Apparel.
41,659 | Louisiana Uniform Ind. (Comp) | Delhi, LA | 05/17/2002 | Aprons, Vest, Doublets.
41,660 | Amspec Chemical Corp (Wrks) | Gloucester City, NJ | 03/06/2002 | Antmony Flame Retardants.
41,661 | Soilmec Branham, Inc. (Wrks) | Conroe, TX | 05/23/2002 | Oil Field Equipment.
41,662 | Cerro Copper Products (USWA) | St. Louis, MO | 05/07/2002 | Copper Tubes.
41,663 | Gold Toe Brands, Inc. (Comp) | Burlington, NC | 05/20/2002 | Socks.
41,664 | Alyeska Pipeling Service (Comp) | Anchorage, AK | 04/16/2002 | Crude Oils.
41,665 | Scotty's Fashions (UNITE) | Lewistown, PA | 05/30/2002 | Ladies Sportswear.
41,666 | P.S.M. Fastener Corp. (Wrks) | St. Louis, MO | 05/24/2002 | Metal Inserts.
41,667 | Mechanical Products (IAMAW) | Jackson, MI | 05/28/2002 | Circuit Breakers.
41,668 | Visiontek, LLC (Wrks) | Gurnee, IL | 05/08/2002 | Computer Graphic Accelerator Cards.
41,669 | Hankison International (USWA) | Washington, PA | 05/24/2002 | Compressed Air Dryers.
41,670 | Burlington Industries (Comp) | Graham, NC | 05/22/2002 | Furniture Upholstery.
41,671 | West Penn Hat and Cap (UNITE) | Creighton, PA | 05/14/2002 | Baseball Caps and Visors.
41,672 | VMV Enterprises, Inc. (IAMAW) | Paducah, KY | 05/29/2002 | Repairs & Locomotives, Traction Motors.
41,673 | Nichirin Coupler (Wrks) | El Paso, TX | 05/28/2002 | Transfering Machines.
41,674 | Kennametal Greenfield (Wrks) | Greenfield, MA | 05/14/2002 | Taps.
41,675 | Great Lakes Chemicals (Wrks) | Newport, TN | 05/10/2002 | Brominated Flame Retardant.
41,676 | Thomson Multimedia, Inc., (IAMAW) | Lancaster, PA | 05/24/2002 | Televisions.
41,677 | Ames True Temper (USWA) | Parkersburg, WV | 05/17/2002 | Lawn and Garden Tools.
41,678 | Pepperell Paper Co (PACE) | Pepperell, MA | 05/28/2002 | Colored Paper.
41,679 | NewSouth Apparel, LLC (Comp) | Brewton, AL | 06/07/2002 | Apparel.
41,680 | Goodyear Tire and Rubber (USWA) | Green, OH | 06/04/2002 | Rubber Air Springs.
41,681 | Farley's and Sathers (Wrks) | Pittston, PA | 05/14/2002 | Candy.
41,682 | Canon Business Machines (Comp) | Costa Mesa, CA | 05/14/2002 | Ink Jet Printers and Peripheral Products.
41,683 | International Comfort (IAMAW) | Lewisburg, TN | 05/20/2002 | Commercial Heating Ventilation.
41,684 | Supreme Tool and Die Co (Comp) | Fenton, MO | 05/22/2002 | Tooling.
41,685 | Dana Corporation (Comp) | Columbia City, IN | 06/10/2002 | Power Steering Assembly.
41,686 | Buehler Motor, Inc. (Comp) | Kinston, NC | 05/29/2002 | Sub-fractional HP Permanent Motors.
41,687 | Oxford of South Carolina (Comp) | Walhalla, SC | 05/31/2002 | Women's Apparel.
41,688 | Stork H and E Turbo (Wrks) | Ithaca, NY | 06/03/2002 | Gas and Steam Turbine Blades.

[FR Doc. C2-16975 Filed 9-9-02; 8:45 am]

BILLING CODE 1505-01-D

DEPARTMENT OF TRANSPORTATION

Federal Aviation Administration

14 CFR Parts 21, 36, and 91

[Docket No. FAA-2000-7587 Amdt No. 21-81, 36-24 & 91-275]

RIN 2120-AH03

Noise Certification Standards for Subsonic Jet Airplanes and Subsonic Transport Category Large Airplanes

Correction

In rule document 02-15835 beginning on page 45194 in the issue of Monday, July 8, 2002 make the following correction:

On page 45194 the docket number should read as set forth above.

[FR Doc. C2-15835 Filed 9-9-02; 8:45 am]

BILLING CODE 1505-01-D